DEPARTMENT OF THE INTERIOR

Bureau of Indian Affairs

Final Environmental Impact Statement and Record of Decision for the Proposed Absaloka Mine Crow Reservation South Extension Coal Lease Approval, Mine Development Plan and Related Federal and State Permitting Actions, Big Horn County, MT

AGENCY: Bureau of Indian Affairs, Interior.

ACTION: Notice.

SUMMARY: This notice advises the public that the Bureau of Indian Affairs (BIA) and the Montana Department of Environmental Quality (MDEQ) as joint lead agencies, with the Crow Tribe of Indians, the Office of Surface Mining Reclamation and Enforcement (OSMRE), the Bureau of Land Management (BLM) and the U.S. Environmental Protection Agency (EPA), as cooperating agencies, intend to file a Final Environmental Impact Statement (FEIS) with the EPA for the proposed extension of the existing Absaloka mine onto the Crow Indian Reservation and for related federal and state permitting actions. This notice also announces that the BIA will simultaneously issue its Record of Decision (ROD) for approval of the Westmoreland Resources, Inc. (WRI) lease with the Crow Tribe for the South Extension coal lease tract on the Reservation, and the approval of all surface use agreements between WRI and the allottee surface owners in the South Extension tract. The FEIS and ROD are now available for public review.

DATES: The waiting period for the FEIS and the appeal period for the ROD end on November 10, 2008. Any written comments on the FEIS must arrive by November 10, 2008.

ADDRESSES: You may mail or hand carry written comments on the FEIS to George Gover, Superintendent; Crow Agency, P.O. Box 69; Crow Agency, MT. Directions on how and where to file appeals are included in the ROD.

You may review the FEIS and ROD at BIA, Weaver Avenue, Building 2, Crow Agency, MT; BIA, Rocky Mountain Regional Office, 316 N. 26th Street (Environmental, Cultural and Safety—Room 4433), Billings, MT; BLM, Montana State Office (Solid Minerals Section), 5001 Southgate Drive, Billings, MT; EPA, 10 W. 15th Street, Suite 3200, Helena, MT; MDEQ, 1520 E. 6th Avenue, Helena, MT; the Crow Tribal Office, Crow Agency, MT; Big Horn County Library, Hardin, MT; or Little Bighorn College Library, Crow Agency, MT. The documents are also available on the Internet at http://www.deq.mt.gov.

Computer disk copies of the FEIS may be obtained by contacting Rick Stefanic, Regional Environmental Protection Officer, Rocky Mountain Region, at 316 N. 26th Street, Billings, MT 59101, or at the telephone number provided below. Copies have been mailed to parties on the distribution list and to others who commented during the development and review process for this EIS.

FOR FURTHER INFORMATION CONTACT: Rick Stefanic, (406) 247-7911.

SUPPLEMENTARY INFORMATION: WRI has operated the Absaloka Mine on the existing Tract III Crow Indian coal lease in the Crow Ceded Area since 1974. WRI proposes to advance surface coal mining operations southward onto the Crow Reservation pursuant to the terms of an agreement with the Crow Tribe under the Indian Mineral Development Act (IMDA). The legal description for the coal acreage on the Reservation is generally given as being within T.1S., R.37E., Sections 1, 12, 13; and T.1S., R.38E., Sections 8, 9, 10, 11, 14, 15, 16, 17, 20, and 21; Montana Principal Meridian. This area totals 3,660.23 acres in Big Horn County, Montana. All of the minerals are owned by the Crow Tribe. The surface estate is owned by the Crow Tribe (32%), allotted Indian owners (14%), and non-Indian fee owners (54%).

The FEIS analyzes three alternatives, the Proposed Action, Alternative One, and No Action. Under the Proposed Action, the MDEQ and OSMRE would approve Absaloka Mine's proposed Tract III Revision. The BIA would approve the IMDA lease for the proposed South Extension and the surface use agreements between the allottee surface owners and WRI; and OSMRE would approve the mining permit for the South Extension. Under this alternative, approximately 76.6 million tons of additional coal would be recovered, and the mine life would be extended until about 2023.

Under Alternative One, WRI would not implement the South Extension development plan on the Crow Indian Reservation if the BIA does not approve the IMDA lease for the South Extension tract. Furthermore, because the South Extension includes allotted trust lands, the South Extension development plan would not be implemented if the BIA does not approve all surface use agreements between the allottee surface owners and WRI. The coal contained in the South Extension tract on the Crow Indian Reservation would not be mined. WRI would, however, receive approval from MDEQ and OSMRE to revise Absaloka Mine's existing mine and reclamation plan to include the Tract III Revision area. Under this alternative, approximately 13 million tons of additional coal would be mined and the mine life would be extended to about 2011.

Under the No Action Alternative, none of the proposed actions would occur and WRI would not implement the South Extension development plan. The remaining (already permitted) 14 million tons of in-place coal reserves would be mined by approximately 2009 at the current 6.5 to 7.0 million-ton annual production rate.

In addition to the BIA's proposed action alternatives described above, the EIS analyzes the proposed action for the EPA to issue a Clean Water Act National Pollutant Discharge Elimination System (NPDES) permit for discharges of storm water associated with the proposed mine expansion onto the Crow Indian Reservation. The proposed stormwater management alternative is for EPA Region 8 to issue an NPDES permit for the use of 24 sediment traps to contain the 2-year, 24-hour runoff event during the initial clearing and grubbing and during the reclamation phase. Supplemental internal sediment traps would be used during the operational phase to contain 10-year, 24-hour runoff volume in aggregate. Sediment traps would then be reduced in size to small depressions as a best management practice as reclamation is completed.

A second alternative analyzed is to issue an NPDES permit for the use of conventional sediment pond dams to detain the 10-year, 24-hour runoff event plus sediment storage. A third, is to issue an NPDES permit for the use of a single large dam on the main stem of Middle Fork Sarpy Creek, downstream of mine operations. The No Action Alternative for the proposed management corresponds with BIA alternatives that do not involve expansion of the mine onto the Crow Indian Reservation, in which case, EPA would not issue an NPDES permit.

The BIA has afforded government agencies and the public full opportunity to participate in the preparation of this EIS. The BIA published a notice of intent to prepare the EIS for the proposed action in the Federal Register on November 28, 2006 (71 FR 68831); and held a public scoping meeting on December 14, 2006, in West Hardin, Montana. A Notice of Availability for the Draft EIS was published in the Federal Register on March 21, 2008 (73 FR 15189). The Draft was available for public comment until May 5, 2008, with an extension until June 4, 2008, published in the Federal Register on May 2, 2008 (73 FR 24304). The BIA held a public hearing on the Draft EIS on April 23, 2008, in West Hardin, Montana. This date was announced in the Federal Register on April 2, 2008 (73 FR 17995), in correction of an April 10, 2008, meeting date erroneously announced in the March 21, 2008, Notice of Availability (73 FR 15189).

Public Comment Availability

Comments, including names and addresses of respondents, will be available for public review at the BIA address shown in the ADDRESSES section, during business hours, 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority: This notice is published in accordance with section 1503.1 of the Council of Environmental Quality Regulations (40 CFR, Parts 1500 through 1508) implementing the procedural requirements of the National Environmental Policy Act of 1969, as amended (42 U.S.C. 4371 et seq.), Department of the Interior Manual (516 DM 1-6), and is in the exercise of authority delegated to the Director, Office of Environmental Policy and Compliance, via 516 DM 6.3 B. and Environmental Statement Memorandum ESM04-12.6(e).

Willie R. Taylor,
Director, Office of Environmental Policy and Compliance.

[FR Doc. E8-23784 Filed 10-9-08; 8:45 am]

BILLING CODE 4310-W7-P